DEPARTMENT OF STATE

[Public Notice 3408]

Bureau of Educational and Cultural Affairs Request for Proposals: Georgian School of Journalism Project

NOTICE: Request for proposals.

SUMMARY: The Office of Global Educational Programs of the United States Department of State's Bureau of Educational and Cultural Affairs announces an open competition for an assistance award program. Public and private non-profit organizations meeting the provisions described in IRS regulation 26 CFR 1.501(c) may submit proposals to assist in establishing and developing a school of Journalism in the Republic of Georgia with the goal of training 25 journalists each year during the grant period. Bureau policy stipulates that awards to organizations with less than four years experience in conducting international exchanges are limited to $60,000. The Bureau anticipates awarding one grant in the amount of $540,000 to conduct activities outlined in this Request for Proposals. Therefore, only organizations with four or more years experience in coordinating international exchange programs are eligible to apply for this competition.

PROGRAM INFORMATION:

Overview

This project is designed to provide training to journalists in Georgia in ways that reflects the practice of American journalism with special emphasis on training in fact-based, fair and balanced reporting. In partnership with the Media Development Center, a Georgian NGO, a one-year English language Master's certificate program in journalism will be established, using American practitioners to train the next generation of Georgian journalists. The curriculum for the program should begin with three months of intensive training in economics, followed by nine months of training in journalism. Twenty-five students will be trained each year in the Master's program during the period of this grant. Applicants should propose a plan to provide instruction for up to three years. The applicant should also propose plans to establish a professional student newspaper as a practical training-based component of the overall program.

Background

The Republic of Georgia is undertaking efforts to implement democratic reforms, including steps to establish a free press in Georgia. However, Georgian journalists currently lack the skills to explain the forces of change. Journalists also do not always perceive their obligation to act as credible watchdogs; nor do they see the need to form associations to protect practitioners. The lack of professionalism creates severe impediments to the development of democracy, depriving citizens of reliable information about what is happening in their societies.

Program

This program is designed to provide journalism training in Georgia that reflects the practice of American journalism with special emphasis on training in fact-based, fair and balanced reporting. A one-year English language Master's certificate program in journalism will be established. Training should emphasize the fundamentals of reporting, writing, researching and editing. Courses in visual journalism and broadcast techniques should be provided, as well as theory courses that focus on ethics, the influence of media on society, and the role of a journalist in a democratic society. Since it is important that all of the students have a basic understanding of economics, it is recommend that the school year start with an intensive three-month session on micro and macro-economics. Economics in Georgia as in other transitional economics in the NIS plays a pivotal role in all aspects of Georgian life. An academic background in economics will aid in the graduates' ability on report on and interpret current events in Georgia for their audience.

For the remaining nine months, students will choose either a print or broadcast component in the journalism program, though the grantee organization will be free to consider whether students may train in both areas, to give them greater professional flexibility. The focus should be on developing basic reporting and research skills for print and broadcast; computer-assisted research and reporting should also be included in the curriculum. By the end of the academic year students should be doing advanced reporting, and completing a final project. The journalism school should also function as a resource for graduates of the program in their work as practicing journalists. Courses will be taught in English, so language testing will be required as part of the application process.

Applicants should propose a plan to provide instruction for up to three years. Applicants are encouraged to look for outside sources of funding for certain components, such as the student newspaper or purchase of broadcast equipment. Additional USG funding may be available to expand the program to include students from other countries in the NIS region or to continue the program after the initial funding period.

Staffing

A minimum of two full-time American faculty, or the equivalent, will teach 25 students each year in the print and broadcast components of the Master's program. A third American instructor will consult on the creation of a student newspaper and serve as faculty mentor for the newspaper. The paper should be fun as independently as possible and be able within a year to select student reporters on its own from the Master's program and from other Georgian university faculties and departments. Applicants should suggest ways to sustain the newspaper at the end of the training program. Students enrolled in the journalism program will likely hold undergraduate degrees in a variety of disciplines. Faculty should be available to spend extensive time one-on-one with students, for editorial conferences and individual critiques. The locally hired Georgian journalism program director and founder of the Media Development Center will help with recruitment of students, assist students in obtaining access to press conferences and policy makers, and locate media outlets that will accept student-produced news stories. The grant will cover the costs for local staff positions including but not limited to: administrative support staff, security personnel, computer technical support, and library staff. The grantee will be responsible for final decisions regarding the hiring of local staff but will consult with the local Georgian journalism program director. The grantee will not be responsible for covering the salary costs of the local Georgian journalism program director.

Logistics

The grantee organization in coordination with the local partner will be responsible for most arrangements associated with this program. The local partner will assist in recruiting students and arranging for language testing of applicants. Final selection of students must be approved by the grantee. The grantee will also be responsible for developing a curriculum based on practical training, locating American journalism teachers (preferably current practitioners of journalism) and economics professors, and coordinating with the local partner to provide international and domestic travel arrangements for U.S. trainers, make lodging and local transportation arrangements for the trainers, and manage the facility where the school will be housed. A site has been located to house the program and rent costs will be covered through a separate budget. Internet access will be available at the site but fees for the service should be incorporated into the grant budget.

Budget Guidelines

The award for this program may not exceed $540,000 for a period of up to three years. The U.S. grantee organization and the Georgian journalism program director will be expected to work together to locate other donor support. Other donors in Georgia have indicated an interest in this project. Applicants must submit a comprehensive budget for the entire program. Applicants may provide separate sub-budgets for each program component including equipment, phase, location, or activity to provide clarification. Local budget items must reflect operating costs in Georgia accurately; the Georgian program director will assist the applicant organizations in estimating operating costs. A nominal tuition fee, to be worked out with the advice of the program director, may be charged to students. Please refer to the Solicitation Package for complete budget guidelines and formatting instructions.

Announcement Title and Number: All correspondence with the Bureau concerning this RFP should reference the above title and number ECA/A/S/U-01-05.

FOR FURTHER INFORMATION, CONTACT: The Office of Global Educational Programs, Bureau of Educational and Cultural Affairs, ECA/A/S/U, Room 349, U.S. Department of State S.A. 44, 301 4th Street, SW., Washington, DC 20547, telephone 202-619-6492, fax 202-410-1433, Internet abailey@pd.state.gov to request a Solicitation Package. The Solicitation Package contains detailed award criteria, required application forms, specific budget instructions, and standard guidelines for proposal preparation. Please specify Bureau Program Officer Alanna Bailey on all inquiries and correspondence. Questions regarding budget estimates for local costs in Georgia should be directed to the founder of the Media Development Center and local Georgian journalism program director, Maia Mikazhavidze. She can be reached at +995-99-58-97-04.

Please read the complete Federal Register announcement before sending inquiries or submitting proposals. Once the RFP deadline has passed, Bureau staff may not discuss this competition with applicants until the proposal review process has been completed.

To Download a Solicitation Package via Internet: The entire Solicitation Package may be downloaded from the Bureau's website at http://exchanges.state.gov/education/rfps. Please read all information before downloading.

Deadline for Proposals: All proposal copies must be received at the Bureau of Educational and Cultural Affairs by 5 p.m. Washington, DC time on Friday, November 3, 2000. Faxed documents will not be accepted at any time. Documents postmarked the due date but received on a later date will not be accepted. Each applicant must ensure that the proposals are received by the above deadline.

Approximate Program Dates: Grants should begin on or about December 15, 2000.

Applicants must follow all instructions in the Solicitation Package. The original and 10 copies of the Application should be sent to: U.S. Department of State, SA-44, Bureau of Educational and Cultural Affairs, Ref.: ECA/A/S/U-01-05, Program Management, ECA/EX/PM, Room 336, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website at http://www.itpolicy.gsa.gov.

Review Process

Proposals are reviewed for adherence to legal and budgetary requirements by Bureau offices responsible for these functions. For program content, cost-effectiveness, and other criteria spelled out in the RFP, the review is conducted by an advisory, assistance award-review panel composed of Bureau and Department officers. Additional officers, including geographic area personnel, also review proposals for feasibility as well as potential for short- and long-term impact. Final funding decisions are at the discretion of the Department of State's Assistant Secretary for Educational and Cultural Affairs. Final technical authority for assistance awards resides with a Bureau Grants Officer.

The submission will be reviewed with the following review criteria in mind:

1. Quality of the program idea: Proposals should exhibit originality, substance, precision, and relevance to the creation of a sound journalism program. Proposals must demonstrate an in-depth understanding of the current situation in Georgia, and describe how the Master's certificate program and student newspaper will help to create a more open and free press in Georgia. Proposals should emphasize the practical nature of the curriculum.

2. Program planning: Proposals should detail curriculum for courses on reporting, writing and editing of print and broadcast journalism, with an emphasis on fact-based and investigative reporting. A plan for personal interaction between the students and faculty, including one-on-one critiques of student work, and a mechanism for continuing support for alumni after they have graduated from the program must be included. Agenda and relevant work plan should adhere to the program overview and guidelines described above. Student recruitment, English testing and selection must be detailed; proposals should include a sample application form with questions that will evaluate applicants' potential as well as abilities.

3. Ability to achieve program objectives: Objectives should be reasonable, feasible, and flexible. Proposals should clearly demonstrate how the institution will meet the program's objectives and plan.

4. Multiplier effect/impact: Proposed programs should demonstrate how they would link with and strengthen existing media outlets in Georgia, including establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity/Area Expertise: Proposed personnel and institutional resources should be adequate and appropriate to achieve the program or project's goals. American faculty and local administrative staff must demonstrate the qualifications needed to recruit, select, teach and support students in this program.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Follow-on Activities: Proposals should provide a plan for continued follow-on activity (without Bureau support) ensuring that Bureau supported programs are not isolated events.

9. Project Evaluation: Proposals should include a plan to evaluate the activity's success, both as the activities unfold and at the end of the program. Draft student course evaluations, faculty questionnaires or other techniques plus description of a methodology to use to link outcomes to original project objectives are recommended.

10. Cost-effectiveness: The overhead and administrative components of the proposal, including salaries and honoraria, should be kept as low as possible. All other items should be necessary and appropriate.

11. Cost-sharing: Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program cited above is provided through the Freedom for Russia and Emerging Eurasian Democracies and Open Markets Support Act of 1992 (Freedom Support Act).

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: September 4, 2000.
William B. Bader,
Assistant Secretary for Educational and Cultural Affairs, Department of State.

[FR Doc. 00-23386 Filed 9-13-00; 8:45 am]

BILLING CODE 4710-11-P